DEPARTMENT OF THE INTERIOR

Bureau of Land Management

(CO-930-1430-ET; COC-28531, COC-17321)

Public Land Order No. 7428; Revocation and Partial Revocation of Two Executive Orders Which Created Public Water Reserves; Colorado

AGENCY: Bureau of Land Management, Interior.

ACTION: Public Land Order.

SUMMARY: This order revokes one Executive order in its entirety and partially revokes another Executive order insofar as they affect 491 acres of public lands withdrawn for the Bureau of Land Management's Public Water Reserve No. 139 and Public Water Reserve No. 107. This action will open these lands to surface entry under the public land laws and to nonmetalliferous location and entry under the United States mining laws. This action is consistent with the Northeast Resource Area Management Plan. The lands have been and will remain open to mineral leasing and to metalliferous mining.

EFFECTIVE DATE: February 23, 2000.

FOR FURTHER INFORMATION CONTACT: Doris E. Chelius, BLM Colorado State Office, 2850 Youngfield Street, Lakewood, Colorado 80215, 303-239-3706.

By virtue of the authority vested in the Secretary of the Interior by Section 204 of the Federal Land Policy and Management Act of 1976, 43 U.S.C. (1994), it is ordered as follows:

1. Executive Order No. 5593, dated April 4, 1931, which established Public Water Reserve No. 139, is hereby revoked in its entirety:

Sixth Principal Meridian

T. 4 N., R. 61 W.,

Sec. 5, S½NW¼.

The area described contains 80 acres in Weld County.

2. The Executive Order dated April 17, 1926, which established Public Water Reserve No. 107, is hereby revoked insofar as it affects the following described lands:

Sixth Principal Meridian

T. 5 N., R. 60 W.,

Sec. 27, SW¼NE¼

T. 4 N., R. 62 W.,

Sec. 12, SE¼SE¼.

T. 3 N., R. 71 W.,

Sec. 10, lot 4.

T. 1 N., R. 72 W.,

Sec. 6, lot 112, and lots 117 to 122, inclusive.

T. 7 S., R. 70 W.,

Sec. 20, SW¼SE¼.

T. 3 S., R. 72 W.,

Sec. 17, lots 52, 53, and 54.

T. 3 S., R. 73 W.,

Sec. 1, NW¼NE¼, NW¼SW¼, and E½SW¼;

Sec. 2, E½NE¼;

Sec. 11, NE¼NW¼ and SW¼SW¼.

The areas described aggregate 411 acres in Boulder, Weld, Gilpin, and Jefferson Counties.

2. At 9:00 a.m. on February 23, 2000, the lands described in Paragraphs 1 and 2 will be opened to operation of the public land laws generally, subject to valid existing rights, the provisions of existing withdrawals, other segregations of record, and the requirements of applicable law. All valid applications received at or prior to 9 a.m. on February 23, 2000, shall be considered as simultaneously filed at that time. Those received thereafter shall be considered in the order of filing.

3. At 9:00 a.m. on February 23, 2000, the lands described in Paragraphs 1 and 2 will be opened to nonmetalliferous location and entry under the United States mining laws, subject to valid existing rights, the provisions of existing withdrawals, other segregations of record, and the requirements of applicable law. Appropriation of any of the lands described in this order to nonmetalliferous mining under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: January 11, 2000.
John Berry,
Assistant Secretary of the Interior.

[FR Doc. 00-1608 Filed 1-21-00; 8:45 am]

BILLING CODE 4310-JB-P